ENVIRONMENTAL PROTECTION AGENCY

40 CFR Part 52

[EPA-R04-OAR-2022-0436; FRL-10401-01-R4]

Air Plan Approval; Georgia; Atlanta Area Limited Maintenance Plan for the 1997 8-Hour Ozone NAAQS

AGENCY: Environmental Protection Agency (EPA).

ACTION: Proposed rule.

SUMMARY: The Environmental Protection Agency (EPA) is proposing to approve a state implementation plan (SIP) revision submitted by the State of Georgia, through the Georgia Environmental Protection Division (EPD), via a letter dated December 17, 2021. The SIP revision includes the 1997 8-hour ozone national ambient air quality standards (NAAQS) Limited Maintenance Plan (LMP) for the Atlanta, Georgia Area (hereinafter referred to as the Atlanta Area or Area). The Area consists of 20 counties in Georgia: Barrow, Bartow, Carroll, Cherokee, Clayton, Cobb, Coweta, DeKalb, Douglas, Fayette, Forsyth, Fulton, Gwinnett, Hall, Henry, Newton, Paulding, Rockdale, Spalding, and Walton County. EPA is proposing to approve the LMP for the Area because the LMP provides for the maintenance of the 1997 8-hour ozone NAAQS within the Area through the end of the second 10-year portion of the maintenance period. The effect of this action would be to make certain commitments related to maintenance of the 1997 8-hour ozone NAAQS in the Area federally enforceable as part of the Georgia SIP.

DATES: Comments must be received on or before December 28, 2022.

ADDRESSES: Submit your comments, identified by Docket ID No. EPA-R04-OAR-2022-0436 at https://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Sarah LaRocca, Air Regulatory Management Section, Air Planning and Implementation Branch, Air and Radiation Division, U.S. Environmental Protection Agency, Region 4, 61 Forsyth Street SW, Atlanta, Georgia 30303-8960. The telephone number is (404) 562-8994. Ms. LaRocca can also be reached via electronic mail at larocca.sarah@epa.gov.

SUPPLEMENTARY INFORMATION:

Table of Contents

I. Summary of EPA's Proposed Action

II. Background

III. Georgia's SIP Submittal

IV. EPA's Evaluation of Georgia's SIP Submittal

A. Attainment Emissions Inventory

B. Maintenance Demonstration

C. Monitoring Network and Verification of Continued Attainment

D. Contingency Plan

E. Conclusion

V. Transportation Conformity and General Conformity

VI. Proposed Action

VII. Statutory and Executive Order Reviews

I. Summary of EPA's Proposed Action

In accordance with the Clean Air Act (CAA or Act), EPA is proposing to approve the Atlanta Area LMP for the 1997 8-hour ozone NAAQS that was submitted by Georgia EPD as a revision to the Georgia SIP on December 17, 2021. On April 15, 2004, the EPA Administrator signed a final rule announcing designations under the 8-hour ozone NAAQS. That action included the designation of the Atlanta Area as nonattainment for the 1997 8-hour ozone NAAQS. It was published April 30, 2004 and became effective June 15, 2004. See 69 FR 23857 (April 30, 2004). Subsequently, EPA approved a maintenance plan and redesignated the Atlanta Area attainment for the 1997 8-hour Ozone NAAQS. See 78 FR 72040 (December 2, 2013).

The Area LMP submitted by Georgia EPD on December 17, 2021, is designed to maintain the 1997 8-hour ozone NAAQS within the Atlanta Area through the end of the second 10-year portion of the maintenance period beyond redesignation. EPA is proposing to approve the LMP because it meets all applicable requirements under CAA sections 110 and 175A.

As a general matter, the Atlanta Area LMP builds upon controls and contingency provisions to maintain the 1997 8-hour ozone NAAQS during the second 10-year portion of the Area's maintenance period as the maintenance plan submitted by Georgia EPD for the first 10-year period.

II. Background

Ground-level ozone is formed when oxides of nitrogen (NOX) and volatile organic compounds (VOC) react in the presence of sunlight. These two pollutants, referred to as ozone precursors, are emitted by many types of pollution sources, including on- and off-road motor vehicles and engines, power plants and industrial facilities, and smaller area sources such as lawn and garden equipment and paints. Scientific evidence indicates that adverse public health effects occur following exposure to ozone, particularly in children and in adults with lung disease. Breathing air containing ozone can reduce lung function and inflame airways, which can increase respiratory symptoms and aggravate asthma and other lung diseases.

Ozone exposure also has been associated with increased susceptibility to respiratory infections, medication use, doctor visits, and emergency department visits and hospital admissions for individuals with lung disease. Children are at increased risk from exposure to ozone because their lungs are still developing and they are more likely to be active outdoors, which increases their exposure.¹

¹ See “Fact Sheet, Proposal to Revise the National Ambient Air Quality Standards for Ozone,” January 6, 2010, and 75 FR 2938 (January 19, 2010).

In 1979, under section 109 of the CAA, EPA established primary and secondary NAAQS for ozone at 0.12 parts per million (ppm), averaged over a 1-hour period. See 44 FR 8202 (February 8, 1979). On July 18, 1997, EPA revised the primary and secondary NAAQS for ozone to set the acceptable level of ozone in the ambient air at 0.08 ppm, averaged over an 8-hour period. See 62 FR 38856 (July 18, 1997).² EPA set the 8-hour ozone NAAQS based on scientific evidence demonstrating that ozone causes adverse health effects at lower concentrations and over longer periods of time than was understood when the pre-existing 1-hour ozone NAAQS was set. EPA determined that the 8-hour ozone NAAQS would be more protective of human health, especially for children and adults who are active outdoors, and individuals with a pre-existing respiratory disease, such as asthma.

² In March 2008, EPA completed another review of the primary and secondary ozone NAAQS and tightened them further by lowering the level for both to 0.075 ppm. See 73 FR 16436 (March 27, 2008). Additionally, in October 2015, EPA completed a review of the primary and secondary ozone NAAQS and tightened them by lowering the level for both to 0.070 ppm. See 80 FR 65292 (October 26, 2015).

Following promulgation of a new or revised NAAQS, EPA is required by the CAA to designate areas throughout the nation as attaining or not attaining the NAAQS. Effective June 15, 2004, EPA designated the Atlanta Area as nonattainment for the 1997 8-hour ozone NAAQS. See 69 FR 23858 (April 30, 2004). Similarly, on May 21, 2012, EPA designated areas as unclassifiable/attainment or nonattainment for the 2008 8-hour ozone NAAQS. Fifteen metro Atlanta counties were designated nonattainment for the 2008 ozone NAAQS: Bartow, Cherokee, Clayton, Cobb, Coweta, DeKalb, Douglas, Fayette, Forsyth, Fulton, Gwinnett, Henry, Newton, Paulding, and Rockdale. See 77 FR 30088 (May 21, 2012). EPA designated five other metro Atlanta counties as unclassifiable/attainment for the 2008 8-hour ozone NAAQS: Barrow, Carroll, Hall, Spalding, and Walton. These designations became effective on July 20, 2012. In addition, on June 4, 2018, EPA designated areas for the 2015 8-hour ozone NAAQS. Effective August 3, 2018, seven metro Atlanta counties were designated as nonattainment for the 2015 8-hour ozone NAAQS: Bartow, Clayton, Cobb, DeKalb, Fulton, Gwinnett and Henry. See 83 FR 25776 (June 4, 2018) and 40 CFR 81.311.

A state may submit a request that EPA redesignate a nonattainment area that is attaining a NAAQS, and, if the area has met other required criteria described in section 107(d)(3)(E) of the CAA, EPA may approve the area's redesignation to attainment.³ One of the criteria for redesignation is to have an approved maintenance plan under CAA section 175A. The maintenance plan must demonstrate that the area will continue to maintain the NAAQS for the period extending 10 years after redesignation, and it must contain such additional measures as necessary to ensure maintenance and such contingency provisions as necessary to assure that violations of the NAAQS will be promptly corrected. Eight years after the effective date of redesignation, the state must also submit a second maintenance plan to ensure ongoing maintenance of the NAAQS for an additional ten years pursuant to CAA section 175A(b) (i.e., ensuring maintenance for 20 years after redesignation).

³ Section 107(d)(3)(E) of the CAA sets out the requirements for redesignating a nonattainment area to attainment. They include attainment of the NAAQS, full approval of the applicable SIP pursuant to CAA section 110(k), determination that improvement in air quality is a result of permanent and enforceable reductions in emissions, demonstration that the state has met all applicable section 110 and part D requirements, and a fully approved maintenance plan under CAA section 175A.

EPA has published long-standing guidance for states on developing maintenance plans, beginning with a 1992 memo referred to as the Calcagni memo.⁴ The Calcagni memo provides that states may generally demonstrate maintenance by either performing air quality modeling to show that the future mix of sources and emission rates will not cause a violation of the NAAQS or by showing that projected future emissions of a pollutant and its precursors will not exceed the level of emissions generated during a year when the area was attaining the NAAQS (i.e., attainment year inventory). See Calcagni memo at page 9. EPA clarified in three subsequent guidance memos that certain areas could meet the CAA section 175A requirement to provide for maintenance by showing that the area was unlikely to violate the NAAQS in the future, using information such as the area's design value ⁵ being well below the standard and the area having a historically stable design value.⁶ EPA refers to a maintenance plan containing this streamlined demonstration as an LMP.

⁴ See John Calcagni, Director, Air Quality Management Division, EPA Office of Air Quality Planning and Standards, “Procedures for Processing Requests to Redesignate Areas to Attainment,” September 4, 1992 (Calcagni memo, available at https://www.epa.gov/ground-level-ozone-pollution/procedures-processing-requests-redesignate-areas-attainment).

⁵ The ozone design value for a monitoring site is the 3-year average of the annual fourth-highest daily maximum 8-hour average ozone concentrations. The design value for an ozone area is the highest design value of any monitoring site in the area.

⁶ See “Limited Maintenance Plan Option for Nonclassifiable Ozone Nonattainment Areas” from Sally L. Shaver, Office of Air Quality Planning and Standards (OAQPS), dated November 16, 1994; “Limited Maintenance Plan Option for Nonclassifiable CO Nonattainment Areas” from Joseph Paisie, OAQPS, dated October 6, 1995; and “Limited Maintenance Plan Option for Moderate PM10 Nonattainment Areas” from Lydia Wegman, OAQPS, dated August 9, 2001. Copies of these guidance memoranda can be found in the docket for this proposed rulemaking.

EPA has interpreted CAA section 175A as permitting the LMP option because section 175A of the Act does not define how areas may demonstrate maintenance, and in EPA's experience implementing the various NAAQS, areas that qualify for an LMP and have approved LMPs have rarely, if ever, experienced subsequent violations of the NAAQS. As noted in the LMP guidance memoranda, states seeking an LMP must still submit the other maintenance plan elements outlined in the Calcagni memo, including: an attainment emissions inventory, provisions for the continued operation of the ambient air quality monitoring network, verification of continued attainment, and a contingency plan in the event of a future violation of the NAAQS. Moreover, a state seeking an LMP must still submit its section 175A maintenance plan as a revision to its SIP, with all attendant notice and comment procedures. While the LMP guidance memoranda were originally written with respect to certain NAAQS,⁷ EPA has extended the LMP interpretation of section 175A to other NAAQS and pollutants not specifically covered by the previous guidance memos. See, e.g., 79 FR 41900 (July 18, 2014) (approval of the second ten-year LMP for the Grant County 1971 SO2 maintenance area).

⁷ The prior memos addressed: unclassifiable areas under the 1-hour ozone NAAQS, nonattainment areas for the PM10 (particulate matter with an aerodynamic diameter less than 10 microns) NAAQS, and nonattainment for the carbon monoxide (CO) NAAQS.

In this case, EPA is proposing to approve the Area's LMP for the 1997 8-hour ozone NAAQS because the State has made a showing, consistent with EPA's prior LMP guidance, that the Area's ozone concentrations are well below the 1997 8-hour ozone NAAQS and have been historically stable, and that it has met the other maintenance plan requirements. Georgia EPD has submitted the LMP for the Atlanta Area to fulfill the second maintenance plan requirement in the Act. EPA's evaluation of the Area's LMP for the 1997 8-hour ozone NAAQS is presented below.

On April 4, 2012, Georgia EPD submitted to EPA a request to redesignate the Atlanta Area to attainment for the 1997 8-hour ozone NAAQS. This submittal included a plan to provide for maintenance of the 1997 8-hour ozone NAAQS in the Atlanta Area through 2024 as a revision to the Georgia SIP. EPA approved the Atlanta Area Maintenance Plan and the State's request to redesignate the Atlanta Area to attainment for the 1997 8-hour ozone NAAQS effective January 2, 2014. See 78 FR 72040 (December 2, 2013).

Under CAA section 175A(b), states must submit a revision to the first maintenance plan eight years after redesignation to provide for maintenance of the NAAQS for ten additional years following the end of the first 10-year period. EPA's final implementation rule for the 2008 8-hour ozone NAAQS revoked the 1997 8-hour ozone NAAQS and stated that one consequence of revocation was that areas that had been redesignated to attainment (i.e., maintenance areas) for the 1997 NAAQS no longer needed to submit second 10-year maintenance plans under CAA section 175A(b). See 80 FR 12315 (March 6, 2015). On June 2, 2017, EPA redesignated 15 counties in metro Atlanta as attainment for the 2008 8-hour ozone NAAQS.⁸ See 82 FR 25523 (June 2, 2017).

⁸ The 15-county metro Atlanta region identified for the 2008 8-hour ozone NAAQS is comprised of Bartow, Cherokee, Clayton, Cobb, Coweta, DeKalb, Douglas, Fayette, Forsyth, Fulton, Gwinnett, Henry, Newton, Paulding, and Rockdale counties in Georgia.

In South Coast Air Quality Management District v. EPA, the United States Court of Appeals for the District of Columbia Circuit (D.C. Circuit) vacated EPA's interpretation that, because of the revocation of the 1997 8-hour ozone NAAQS, second maintenance plans were not required for “orphan maintenance areas,” i.e., areas that had been redesignated to attainment for the 1997 8-hour ozone NAAQS maintenance areas and were designated attainment for the 2008 ozone NAAQS. South Coast, 882 F.3d 1138 (D.C. Cir. 2018). Thus, states with these “orphan maintenance areas” under the 1997 8-hour ozone NAAQS must submit maintenance plans for the second maintenance period. Accordingly, on December 17, 2021, Georgia submitted a second maintenance plan for the Atlanta Area that shows that the Area is expected to remain in attainment of the 1997 8-hour ozone NAAQS through January 2, 2034.

In recognition of the continuing record of air quality monitoring data showing ambient 8-hour ozone concentrations in the Area are below the 1997 8-hour ozone NAAQS, Georgia EPD chose the LMP option for the development of the Area's second 1997 8-hour ozone NAAQS maintenance plan. On December 17, 2021, Georgia EPD submitted the second 10-year 1997 8-hour ozone maintenance plan to EPA as a revision to the Georgia SIP.

III. Georgia's SIP Submittal

Georgia's December 17, 2021, submittal includes the LMP, air quality data, emissions inventory information, and an appendix. The submission also includes comments and responses between EPA and Georgia EPD and documentation of notice, hearing, and public participation prior to submission of the plan by Georgia EPD on December 17, 2021. It also includes an explanation that Georgia's LMP submittal for the remainder of the 20-year maintenance period for the Atlanta Area is in response to the D.C. Circuit Court's decision overturning aspects of EPA's Implementation Plan rule. In addition, the LMP went through interagency consultation to ensure transportation conformity.

The Atlanta LMP for the 1997 8-Hour ozone NAAQS includes same or similar emission reduction strategies as the first 10-year Maintenance Plan, as well as additional emissions reduction measures to provide for the maintenance of the 1997 8-hour ozone NAAQS through January 2, 2034. Specifically, the measures upon which the second 10-year LMP for the Area rely include the following SIP-approved Georgia Rules: 391-3-1-.02(2)(yy)—Emissions of Nitrogen Oxides from Major Sources; 391-3-1-.02(2)(jjj)—NOX Emissions from Electric Utility Steam Generating Units; 391-3-1-.02(2)(lll)—NOX Emissions from Fuel-Burning Equipment; 391-3-1-.02(2)(rrr)—NOX from Small Fuel-Burning Equipment; 391-3-20—Vehicle Emissions Inspection and Maintenance Program; and 391-3-1-.02(12)—Cross-State Air Pollution Rule (CSAPR) NOX Annual Trading Program. The Area's LMP also relies on continued implementation of Federal measures (e.g., Onboard Refueling Vapor Recovery for Light Duty Vehicles; Architectural and Industrial Maintenance Coatings; Automobile Refinishing; National Emission Standards for Hazardous Air Pollutants (the majority of which are for VOC); Phase II Acid Rain Program for NOX; Tier 2 Motor Vehicle Emissions Standards and Gasoline Sulfur Control Requirements (65 FR 6697); Tier 3 Motor Vehicle Emissions Standards and Gasoline Sulfur Control Requirements (79 FR 23414); and CSAPR).

IV. EPA's Evaluation of Georgia's SIP Submittal

EPA has reviewed the Area's LMP which is designed to maintain the 1997 8-hour ozone NAAQS within the Area through the end of the 20-year period beyond redesignation, as required under CAA section 175A(b). The following is a summary of EPA's interpretation of the section 175A requirements ⁹ and EPA's evaluation of how each requirement is met.

⁹ See Calcagni memo, pages 7-13.

A. Attainment Emissions Inventory

For maintenance plans, a state should develop a comprehensive, accurate inventory of actual emissions for an attainment year to identify the level of emissions which is sufficient to maintain the NAAQS. A state should develop this inventory consistent with EPA's most recent guidance on emissions inventory development. For ozone, the inventory should be based on typical summer day emissions of VOC and NOX, as these pollutants are precursors to ozone formation. The Atlanta LMP includes an ozone attainment inventory for the Area generated from the data EPA made available from the 2014 National Emissions Inventory (NEI) and that Georgia represents as 2014 summer tons.¹⁰ Table 1 presents a summary of the inventory for 2014 contained in the LMP.

¹⁰ Georgia defines summer tons as the total cumulative emissions from May through September.

¹¹ The totals represented in the table may be slightly different than the inventories in the LMP based on rounding convention.

Table 1—2014 NOX and VOC Emissions by Sector (Summer Tons) in the Atlanta Area
Sector | 2014: NOX | 2014: VOC
Fire | 1 | 4
Nonpoint | 3,228 | 22,991
Nonroad | 6,502 | 8,478
Onroad | 27,684 | 13,868
Point | 7,189 | 2,582
Total ¹¹ | 44,604 | 47,923

The Emissions Inventory section of the LMP for the Atlanta Area describes the methods, models, and assumptions used to develop the attainment inventory. These estimates were derived from emission values provided by EPA for use in developing maintenance plans for the 1997 8-hour ozone NAAQS.¹² For the Atlanta Area, Georgia EPD used the emissions summaries generated by EPA from the 2014 NEI, version 2 (2014NEIv2).¹³

¹² U.S. EPA, “1997 Ozone NAAQS Air Quality Monitoring and Modeling Data” downloaded from https://www.epa.gov/sites/production/files/2018-11/ozone_1997_naaqs_air_qual_monitoring_and_modeling_data_nov_19_2018_1.xlsx, accessed April 2020.

¹³ U.S. EPA, “Air Emissions Modeling, 2014 Version 7.1 Platform,” is available from https://www.epa.gov/air-emissions-modeling/2014-version-71-platform, accessed April 2020 (note that the version 7 platform, which included 2028 projections is not available on EPA's website).

Based on review of the methods, models, and assumptions used by Georgia EPD to develop the VOC and NOX estimates, EPA proposes to find that the Area's LMP includes a comprehensive, reasonably accurate inventory of actual ozone precursor emissions in attainment year 2014, and proposes to conclude that the plan's inventories are acceptable for the purposes of a subsequent maintenance plan under CAA section 175A(b).

B. Maintenance Demonstration

The maintenance demonstration requirement is considered to be satisfied in an LMP if the state can provide sufficient weight of evidence indicating that air quality in the area is well below the level of the NAAQS, that past air quality trends have been shown to be stable, and that the probability of the area experiencing a violation over the second 10-year maintenance period is low.¹⁴ These criteria are evaluated below with regard to the Atlanta Area.

¹⁴ See footnote 6.

1. Evaluation of Ozone Air Quality Levels

To attain the 1997 8-hour ozone NAAQS, the three-year average of the fourth-highest daily maximum 8-hour average ozone concentrations (design value) at each monitor within an area must not exceed 0.08 ppm. Based on the rounding convention described in 40 CFR part 50, appendix I, the NAAQS is attained if the design value is 0.084 ppm (84 parts per billion or “ppb”) ¹⁵ or below. EPA has evaluated the quality assured and certified 2018-2020 monitoring data (which was the most recent quality assured and certified data at the time of submission) and determined that the 2018-2020 design value for the Area is 70 ppb, or 83 percent of the level of the 1997 8-hour ozone NAAQS. In addition, EPA evaluated the quality assured and certified 2019-2021 monitoring data (which is the most recent quality assured and certified monitoring data) and determined that the 2019-2021 design value for the Area is 68 ppb, or 81 percent of the level of the 1997 8-hour ozone NAAQS. Consistent with prior guidance, EPA believes that if the most recent air quality design value for the area is at a level that is well below the NAAQS (e.g., below 85 percent of the NAAQS, or in this case below 71 ppb), then EPA considers the state to have met the section 175A requirement for a demonstration that the area will maintain the NAAQS for the requisite period. Such a demonstration assumes continued applicability of prevention of significant deterioration requirements and any control measures already in the SIP, and that Federal measures will remain in place through the end of the second 10-year maintenance period, absent a showing consistent with section 110(l) that such measures are not necessary to assure maintenance.

¹⁵ EPA set the 1997 8-hour ozone NAAQS in ppm. To convert ppm to ppb the decimal is moved three places to the right (i.e., 0.084 ppm is equal to 84 ppb). Georgia EPD provided the values in ppb for easy reference.

Table 2 presents the design values for each monitor in the Atlanta Area over the 2009-2021 period.¹⁶ As shown in Table 2, all sites have been below the level of the 1997 8-hour ozone NAAQS since the 2008-2010 design value, and the most current design value for each monitoring site is below 85 percent of the NAAQS, consistent with prior LMP guidance.

¹⁶ Georgia EPD provided monitoring data for years 2009 through 2020. The values can be found on Page 12 of the submittal. The monitoring data shows the general downward trend in design values at the monitoring sites.

Table 2—1997 8-Hour Ozone NAAQS Design Values (ppb) at Monitoring Sites in the Atlanta Area for the 2009-2021 Time Period
Location | County | AQS site ID | 2007- 2009 DV | 2008- 2010 DV | 2009- 2011 DV | 2010- 2012 DV | 2011- 2013 DV | 2012- 2014 DV | 2013- 2015 DV | 2014- 2016 DV | 2015- 2017 DV | 2016- 2018 DV | 2017- 2019 DV | 2018- 2020 DV | 2019- 2021 DV
Kennesaw | Cobb | 13-067-0003 | 80 | 76 | 78 | 77 | 73 | I | I | I | 67 | 66 | 65 | 62 | 61
Newnan (Discontinued) | Coweta | 13-077-0002 | 77 | 68 | 67 | 66 | 62 | 60 | 62 | 66 | 63 | D | D | D | D
Dawsonville | Dawson | 13-085-0001 | 73 | 71 | 68 | 67 | 64 | 64 | 64 | 65 | 65 | 65 | 64 | 61 | 60
South DeKalb | DeKalb | 13-089-0002 | 86 | 79 | 77 | 80 | 75 | 72 | 67 | 71 | 71 | 69 | 69 | 67 | 67
Douglasville | Douglas | 13-097-0004 | 79 | 75 | 74 | 75 | 71 | 67 | 66 | 68 | 69 | 67 | 67 | 64 | 66
United Avenue | Fulton | 13-121-0055 | 86 | 80 | 80 | 83 | 80 | 76 | 73 | 75 | 75 | 73 | 73 | 70 | 68
Gwinnett | Gwinnett | 13-135-0002 | 81 | 74 | 75 | 78 | 77 | 72 | 69 | 72 | 71 | 69 | 66 | 66 | 66
McDonough | Henry | 13-151-0002 | 87 | 79 | 78 | 82 | 80 | 77 | 71 | 74 | 71 | 70 | 69 | 67 | 66
Yorkville (Discontinued) | Polk | 13-223-0003 | 74 | 70 | 71 | 72 | 69 | 64 | 62 | 63 | D | D | D | D | D
Georgia Station CASTNET | Pike | 13-231-9991 | ND | ND | ND | ND | 72 | 69 | 66 | 68 | 67 | I | I | I | 61
Conyers | Rockdale | 13-247-0001 | 85 | 78 | 75 | 79 | 77 | 77 | 72 | 74 | 69 | 70 | 68 | 67 | 65
I: Indicates that a monitor did not collect a valid three-year design value due to incomplete data.
D: Indicates that a monitor was approved by EPA to discontinue operation in the Georgia ambient air monitoring network plan.
ND: Prior to 2011, CASTNET sites did not provide regulatory ozone data for comparisons to the NAAQS. Starting in 2011, CASTNET sites were upgraded to meet all requirements of 40 CFR part 58 and provide ozone data for NAAQS comparisons.
The bolded numbers are the design values for the Atlanta Area for the three-year time periods.

Therefore, the Atlanta Area is eligible for the LMP option, and EPA proposes to find that the long record of monitored ozone concentrations that attain the NAAQS, together with the continuation of existing VOC and NOX emissions control programs, adequately provide for the maintenance of the 1997 8-hour ozone NAAQS in the Area through the second 10-year maintenance period and beyond.

2. Stability of Ozone Levels

As discussed above, the Atlanta Area has maintained air quality below the 1997 8-hour ozone NAAQS over the past twelve design values. Additionally, the design value data shown within Table 2 of this document illustrates that ozone levels have been relatively stable over this timeframe, with an overall downward trend. For example, the data within Table 2 of this document indicates that the largest, year over year change in design value presented was 8 ppb for the Atlanta Area, which occurred between the 2009 design value and 2010 design value at monitor 13-151-0002 (McDonough), representing approximately a 9 percent decrease.

Furthermore, overall trend in design values for the Area between 2009-2021 indicates decreases in the monitored ozone concentrations. See, e.g., Table 2, of this document. The Atlanta Area monitor that most frequently measured the highest design value in the area, monitor 13-121-0055 (United Avenue), displayed a decreasing trend over this period from 86 ppb to 68 ppb, a 21 percent decrease.

The downward trend in ozone levels, coupled with the relatively small, year-over-year variation in ozone design values, makes it reasonable to conclude that the Atlanta Area will not exceed the 1997 8-hour ozone NAAQS during the second 10-year maintenance period.

3. Projected Emissions

Although under the LMP option there is no requirement to project emissions over the maintenance period, Georgia EPD provided VOC and NOX emissions for 2014 and 2028. The year 2014 was selected as a baseline for the projection.¹⁷ Projected emissions data for the year 2028 were obtained from EPA, and Georgia presented an inventory that reflects projected NOX and VOC summer tons for the Area.18 19

¹⁷ See https://www.epa.gov/sites/default/files/2018-11/documents/ozone_1997_naaqs_lmp_resource_document_nov_20_2018.pdf.

¹⁸ See https://www.epa.gov/air-emissions-modeling/2014-2016-version-7-air-emissions-modeling-platforms. EPA's emissions projections to 2028 were made from the 2011 NEI, as that iteration of the NEI was the most recently available version when the projection work was performed. Although this projection does not correspond exactly with the end of the second ten-year maintenance period, it provides additional support for EPA's proposed finding that the Area will maintain the NAAQS due to its low and historically stable design values. See the Emissions Inventory section of the LMP for additional information regarding the 2028 projections.

¹⁹ Georgia defines summer tons as the total cumulative emissions from May through September.

The emissions projection shows that between 2014 and 2028, total VOC emissions are estimated to fall by 27 percent in the Atlanta Area. The emissions projection trends show that between 2014 and 2028, total NOX emissions are estimated to fall by 58 percent in the Atlanta Area. These projected declining emissions trends further support the proposed conclusion that it is unlikely that the Areas would violate the 1997 8-hour ozone NAAQS in the future. Table 3 presents a summary of projected emissions for 2028 contained in the maintenance plan.²⁰

²⁰ The inventory documentation for this platform can be found here: https://www.epa.gov/air-emissions-modeling/2011-version-63-platform.

Table 3—Projected 2028 NOX and VOC Emissions by Sector (Summer Tons) in the Atlanta Area
Sector | 2028: NOX | 2028: VOC
Fire | 6 | 15
Nonpoint | 2,554 | 20,552
Nonroad | 4,131 | 7,098
Onroad | 7,995 | 4,982
Point | 4,221 | 2,156
Total ²¹ | 18,907 | 34,803

C. Monitoring Network and Verification of Continued Attainment

²¹ The totals represented in the table may be slightly different than the inventories in the LMP based on rounding convention.

EPA periodically reviews the ozone monitoring network that Georgia EPD operates and maintains in accordance with 40 CFR part 58. Georgia EPD submits an annual ambient air monitoring network plan to EPA after the plan is made available for public inspection and comment, as required by 40 CFR 58.10. EPA has reviewed and approved the 2021 Georgia Ambient Air Monitoring Network Plan (“2021 Annual Network Plan”), which includes an ozone network for the Atlanta Area that meets the requirements of 40 CFR part 58.²²

²² The letter approving the network plan is in the docket for this proposed rulemaking.

To verify the attainment status of the Area over the maintenance period, the maintenance plan should contain provisions for continued operation of an appropriate, EPA-approved monitoring network in accordance with 40 CFR part 58. As noted above, Georgia EPD's monitoring network in the Area has been approved by EPA in accordance with 40 CFR part 58, and the State has committed to continue to maintain a network in accordance with EPA requirements. EPA proposes to find that Georgia EPD's monitoring network is adequate to verify continued attainment of the 1997 8-hour ozone NAAQS in the Area.

D. Contingency Plan

Section 175A(d) of the CAA requires that a maintenance plan include contingency provisions. The purpose of such contingency provisions is to prevent future violations of the NAAQS or to promptly remedy any NAAQS violations that might occur during the maintenance period.

The Atlanta Area LMP contingency plan includes tracking and triggering mechanisms to determine when control measures are needed, and a process for developing and adopting appropriate control measures. There are two potential triggers for the contingency plan. The Tier I trigger will be any 8-hour ozone monitoring reading exceeding 84 ppb at an ambient monitoring station located in the Atlanta Area or periodic emissions inventory updates ²³ that reveal excessive or unanticipated growth greater than 10 percent in either NOX or VOC emissions over the attainment inventory for the Atlanta Area. The Tier II trigger will be any recorded violation of the 1997 8-hour ozone NAAQS at any of the ambient monitoring stations in the Atlanta Area. Upon either the Tier I or Tier II triggers being activated, Georgia EPD will commence analyses to determine what additional measures, if any, will be necessary to attain or maintain the ozone standard. If activation of either trigger occurs, the plan provides a regulatory adoption process for revising emission control strategies. If Georgia's analysis determines that the Atlanta Area is the source of emissions that contribute to a violation, the State will evaluate those measures as specified in Section 172 of the CAA for control options as well as other available measures. Georgia will implement necessary controls as expeditiously as possible, and at least one contingency measure will be implemented within 24 months after the determination, based on quality-assured ambient data, that a violation has occurred. The Georgia EPD will begin initial analysis of possible contingency measures within 6 months of the trigger occurring.²⁴

²³ The Air Emissions Reporting Rule (AERR) requires state and local agencies to collect and submit criteria pollutant emissions data to EPA's Emissions Inventory System (EIS) according to the schedule in 40 CFR 51.30.

²⁴ See the Contingency Plan Section of the LMP for further information regarding the contingency plan, including measures that Georgia will consider for adoption if any of the triggers are activated.

EPA proposes to find that the contingency provisions in Georgia's second maintenance plan for the 1997 8-hour Ozone NAAQS meet the requirements of the CAA section 175A(d).

E. Conclusion

EPA proposes to find that the Atlanta LMP for the 1997 8-hour ozone NAAQS includes an approvable update of the various elements (including attainment inventory, assurance of adequate monitoring and verification of continued attainment, and contingency provisions) of the initial EPA-approved Maintenance Plan for the 1997 8-hour ozone NAAQS. EPA also proposes to find that the Atlanta Area qualifies for the LMP option and adequately demonstrates maintenance of the 1997 8-hour ozone NAAQS through the documentation of monitoring data showing maximum 1997 8-hour ozone levels well below the NAAQS, historically stable design values, and low probability that the Area will experience a violation over the second 10-year maintenance period. EPA believes the Atlanta LMP for the 1997 8-hour ozone NAAQS, which retains all existing control measures, is sufficient to provide for maintenance of the 1997 8-hour ozone NAAQS in the Area over the second maintenance period (i.e., through January 2, 2034), and thereby satisfies the requirements for such plans under CAA section 175A(b). EPA is therefore proposing to approve Georgia's December 17, 2021, submission of the Area's LMP for the 1997 8-hour ozone NAAQS as a revision to the Georgia SIP.

V. Transportation Conformity and General Conformity

Transportation conformity is required by section 176(c) of the CAA. Conformity to a SIP means that transportation activities will not produce new air quality violations, worsen existing violations or delay timely attainment of the NAAQS. See CAA 176(c)(1)(A) and (B). EPA's transportation conformity rule at 40 CFR part 93, subpart A, requires that transportation plans, programs, and projects conform to SIPs, and that it establishes the criteria and procedures for determining whether they conform. The conformity rule generally requires a demonstration that emissions from the Regional Transportation Plan (RTP) and the Transportation Improvement Program (TIP) are consistent with the motor vehicles emissions budget (MVEB) contained in the control strategy SIP revision or maintenance plan. See 40 CFR 93.101, 93.118, and 93.124. A MVEB is defined as “the portion of the total allowable emissions defined in the submitted or approved control strategy implementation plan revision or maintenance plan for a certain date for the purpose of meeting reasonable further progress milestones or demonstrating attainment or maintenance of the NAAQS, for any criteria pollutant or its precursors, allocated to highway and transit vehicle use and emissions.” See 40 CFR 93.101.

Under the conformity rule, LMP areas may demonstrate conformity without a regional emissions analysis. See 40 CFR 93.109(e). EPA made findings that the MVEBs in the first 10-years of the 1997 8-hour ozone maintenance plan for the Atlanta Area were adequate for transportation conformity purposes. In a Federal Register action published on December 2, 2013, EPA notified the public of the adequacy finding for the Atlanta Area through a final rule; the adequacy determination for Atlanta Area became effective on January 2, 2014. See 78 FR 72040.²⁵

²⁵ EPA approved the MVEBs on December 2, 2013. See 78 FR 72040. The approval was made through a final rule and became effective on January 2, 2014.

After approval of or an adequacy finding for the LMP, there is no requirement to meet the “budget test” for motor vehicle emissions pursuant to the transportation conformity rule for the respective maintenance area. All actions that would require a transportation conformity determination for the Atlanta Area under EPA's transportation conformity rule provisions are considered to have already satisfied the regional emissions analysis and “budget test” requirements in 40 CFR 93.118 as a result of EPA's adequacy finding for the LMP. See 69 FR 40004 (July 1, 2004). The Atlanta 2008 and 2015 NAAQS Areas need to continue to meet all applicable requirements of the transportation conformity regulations, including the need for a regional emissions analysis and comparison of the results of the regional emissions analysis to the applicable MVEB for the 2008 8-hour ozone NAAQS. The 2008 8-hour ozone NAAQS MVEBs will be used to demonstrate conformity for the 2015 8-hour ozone NAAQS until MVEBs for the 2015 8-hour ozone NAAQS Area are deemed adequate or approved.

However, because LMP areas are still maintenance areas, certain aspects of transportation conformity determinations still will be required for transportation plans, programs, and projects. Specifically, for such determinations, RTPs, TIPs, and transportation projects still will have to demonstrate that they are fiscally constrained (40 CFR 93.108), meet the criteria for consultation (40 CFR 93.105) and Transportation Control Measure implementation in the conformity rule provisions (40 CFR 93.113), as well as meet the hot-spot requirements for projects (40 CFR 93.116).²⁶ Additionally, conformity determinations for RTPs and TIPs must be determined no less frequently than every four years, and conformity of plan and TIP amendments and transportation projects is demonstrated in accordance with the timing requirements specified in 40 CFR 93.104. Finally, in order for projects to be approved they must come from a currently conforming RTP and TIP. See 40 CFR 93.114 and 93.115.

²⁶ A conformity determination that meets other applicable criteria in Table 1 of paragraph (b) of the section (§ 93.109(e)) is still required, including the hot-spot requirements for projects in CO, PM10, and fine particulate matter (PM2.5) areas.

VI. Proposed Action

Under sections 110(k) and 175A of the CAA and for the reasons set forth above, EPA is proposing to approve the Atlanta LMP for the 1997 8-hour ozone NAAQS, submitted by Georgia EPD on December 17, 2021, as a revision to the Georgia SIP. EPA is proposing to approve the LMP because the LMP includes an acceptable update of the various elements of the 1997 8-hour ozone NAAQS Maintenance Plan approved by EPA for the first 10-year period (including emissions inventory, assurance of adequate monitoring and verification of continued attainment, and contingency provisions), and retains the relevant provisions of the SIP.

EPA also finds that the Atlanta Area, a former nonattainment area for the 1997 8-hour ozone NAAQS, qualifies for the LMP option and, therefore, the Area's LMP adequately demonstrates maintenance of the 1997 8-hour ozone NAAQS through documentation of monitoring data showing maximum 1997 8-hour ozone levels well below the NAAQS and continuation of existing control measures. EPA believes the Area's 1997 8-Hour Ozone LMP to be sufficient to provide for maintenance of the 1997 8-hour ozone NAAQS over the second 10-year maintenance period (which extends through January 2, 2034), and thereby satisfies the requirements for such a plan under CAA section 175A(b).

VII. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Does not impose information collection burdens under the provisions of the Paperwork Reduction Act (44 U.S.C. 3501 et seq.);

• Is certified as not having significant economic impacts on a substantial number of small entities under the Regulatory Flexibility Act (5 U.S.C. 601 et seq.);

• Does not contain any unfunded mandates or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

This SIP revision is not proposed to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations, Nitrogen oxides, Ozone, Reporting and recordkeeping requirements, Volatile organic compounds.

Authority: 42 U.S.C. 7401 et seq.

Daniel Blackman,
Regional Administrator, Region 4.

[FR Doc. 2022-25585 Filed 11-25-22; 8:45 am]

BILLING CODE 6560-50-P